DEPARTMENT OF AGRICULTURE

Economic Research Service

Submission for OMB Review; Comment Request

November 16, 2015.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958. An agency may not conduct or sponsor a collection of information unless the collection of information displays a currently valid OMB control number and the agency informs potential persons who are to respond to the collection of information that such persons are not required to respond to the collection of information unless it displays a currently valid OMB control number.

Economic Research Service

Title: Generic Clearance for Survey Research Studies.

OMB Control Number: 0536—NEW.

Summary of Collection: The Economic Research Service (ERS) of the U.S. Department of Agriculture is requesting approval for a generic clearance that will allow them to conduct research to improve the quality of data collection by developing, testing, and evaluating its survey instruments, methodologies, technology, interview processes, and respondent recruitment protocols. The primary objective of ERS is providing timely research and analysis to public and private decision makers on topics related to agriculture, food, the environment, and rural America. Data collection for this collection is authorized by the 7 U.S.C. 2204(a).

Need and use of the Information: The information collected will be used by staff from the ERS and sponsoring agencies to evaluate and improve the quality of the data in the surveys and censuses that are ultimately conducted. Specifically, the information will be used to reduce respondent burden while simultaneously improving the quality of the data collected in these surveys.

Description of Respondents: Individuals or households; Business or other for-profit; Not-for-profit institutions; Farms; State, Local or Tribal Government.

Number of Respondents: 10,500.

Frequency of Responses: Reporting: Annually.

Total Burden Hours: 16,800.

Ruth Brown,
Departmental Information Collection Clearance Officer.

[FR Doc. 2015-29666 Filed 11-19-15; 8:45 am]

BILLING CODE 3410-18-P